COMMODITY FUTURES TRADING COMMISSION

Sunshine Act Meetings

Federal Register citation of previous announcement: 80 FR 76948, Dec. 11, 2015.

Previously announced time and date of the meeting: 10:00 a.m., Friday, December 18, 2015.

Changes in the meeting: The time of the meeting has changed. This meeting will now be held at 9:30 a.m. on Friday, December 18, 2015.

Contact person for more information: Christopher Kirkpatrick, 202-418-5964.

Natise Allen,
Executive Assistant.

[FR Doc. 2015-31877 Filed 12-15-15; 4:15 pm]

BILLING CODE 6351-01-P